ENVIRONMENTAL PROTECTION AGENCY

[FRL-7808-9]

Building Health Professional Capacity To Address Children's Environmental Health; Initial Announcement

Part I. Overview Information

Environmental Protection Agency, Office of the Administrator, Office of Children's Health Protection.

Solicitation Title: Building Health Professional Capacity to Address Children's Environmental Health; Initial Announcement.

Funding Opportunity Number: USEPA-AO-OCHP-04-03.

Catalogue of Federal Domestic Assistance (CFDA) Number: 66.609. Protection of Children and the Aging as a Fundamental Goal of Public Health and Environmental Protection, Fiscal Year 2004, Environmental Protection Agency.

Deadline for the Letter of Intent: October 25, 2004, all applicants must submit a Letter of Intent (up to two pages in length according to guidelines) to EPA via e-mail to be considered for award.

Solicitation Closing Date: December 13, 2004, for shipment of Pre-application Proposals invited by EPA based upon evaluation of Letters of Intent. General information, application materials, announcements during the solicitation management process, and answers to questions posted on Office of Children's Health Protection Web site: http://yosemite.epa.gov/ochp/ochpweb.nsf/content/grants.htm.

Table of Contents

Part I. Overview Information

Part II. Full Text of Announcement

Section I. Funding Opportunity Description

Section II. Award Information

Section III. Eligibility Information

Section IV. Application and Submission Information

Section V. Application Review Information

Section VI. Award Administration Information

Section VII. Agency Contact

Section VIII. Other Information

Appendix I. Sample Letter of Intent

Appendix II. Sample List of References—Building Health Professional Capacity

Executive Summary

Funding Opportunity Title: “Building Health Professional Capacity to Address Children's Environmental Health.”

Announcement Type: Initial Offering.

Funding Opportunity Number: USEPA-AO-OCHP-04-03.

CFDA Number: 66.609 Protection of Children and the Aging as a Fundamental Goal of Public Health and Environmental Protection, Fiscal Year 2004, EPA.

Purpose of the Funding Opportunity: This funding opportunity is designed to identify competitive projects that increase the number of health professionals who are able to address the broad spectrum of children's environmental health issues in their practices, in the institutions in which they work, in their communities and in academic settings. This solicitation focuses on developing multi-state (at least five states), national, or international (at least three countries) training/education programs for health professionals. These programs will help health professionals understand, diagnose, and develop prevention messages for the full spectrum of children's environmental health issues they encounter. Children's environmental health hazards may include: (1) Air pollutants, both indoor and ambient; (2) toxic chemicals such as lead, mercury, arsenic, organochlorines such as polychlorinated biphenyls and dioxins; (3) endocrine disruptors; (4) environmental tobacco smoke; (5) ultraviolet radiation; (6) water pollution; (6) pesticides; (7) brominated flame retardants; (8) radon; and (9) carbon monoxide. Training should assist health professionals increase understanding of environmental health issues among their patients and their communities, helping them understand the key role of exposure prevention in averting environmentally-related illness and disease. Each proposal must include an evaluation methodology to measure the effectiveness of the training and training approach in fostering the incorporation of children's environmental health issues into the practices of health professionals. Proposals should describe projects that will both: (1) Provide education or training on pediatric environmental health issues to health professionals and, (2) evaluate incorporation of this education or training into individual practice and/or the practices, protocols, and procedures of whole clinics or other institutions.

Awards: EPA anticipates awarding approximately two to three grants from these proposals. Funds available for these projects are expected to total approximately $300,000. Grants are requested for a total of $100,000 to $150,000 for a two-year performance period. No cost sharing or match contributions are required. Projects not funded under this solicitation will be retained on file for a period of one year from the closing date of this solicitation and made available for potential funding by OCHP and other EPA offices.

Eligibility: Eligible applicants include: Academic institutions, non-profit organizations, state, local, and tribal governments. Private businesses, federal agencies, and individuals are not eligible to be grant recipients; however, they may work in partnership with eligible applicants on projects. Applicants must be eligible under at least one of these authorities: Section 103 of the Clean Air Act, section 104 of the Clean Water Act, section 1442 of the Safe Drinking Water Act, section 10 of the Toxic Substances Control Act, and section 102(2)(f) of the National Environmental Policy Act for international awards.

Application and Submission Information: A three-stage application process will be used. Letters of Intent (up to two pages in length) must be submitted to the U.S. EPA Office of Children's Health Protection by e-mail to blackburn.elizabeth@epa.gov (or by fax to (202) 564-2733 only if e-mail is unavailable) by October 25, 2004. Applicants with satisfactory Letters of Intent will be invited to submit a Pre-application Proposal shipped on or before December 13, 2004. Pre-applications selected for possible award will be contacted individually and asked to complete additional forms for a Full Proposal prior to award.

A Sample Letter of Intent is attached as Appendix I. This solicitation with the sample Letter of Intent, general information and Pre-application materials are available on the Office of Children's Health Protection Web site: http://yosemite.epa.gov/ochp/ochpweb.nsf/content/grants.htm. If your Letter of Intent is approved, you will be invited to submit a Pre-application Proposal. These Pre-application materials can also be obtained from the Web site above and the EPA Grants Administration Web site: http://www.epa.gov/ogd/grants/how_to_apply.htm.

Part II. Full Text of Announcement

Section I. Funding Opportunity Description

1. Background

Children need clean air to breathe, clean water to drink, safe food to eat, and a healthy environment to learn, grow and thrive. Yet everyday, children are exposed to risks that may stand in the way of these basic necessities. Children may be more vulnerable to some environmental risks than adults. Many of the health problems that result from exposure to harmful environmental conditions can be prevented, managed, and treated. The public looks to health professionals to play a critical role in the identification, prevention, management and treatment of environmentally-related illnesses. Unfortunately most health professionals are ill-prepared to adequately address environmental hazards.

The Institute of Medicine published two studies in the 1990s—Environmental Medicine: Integrating a Missing Element into Medical Education and Nursing, Health and the Environment: Strengthening the Relationship to Improve the Public's Health—noting the important role of the health professional in addressing environmental health concerns and recommending that a greater effort be made to incorporate environmental health concepts into the training of health professionals. There have been a number of successful efforts in the past decade to support the education and training of health professionals but continued efforts to provide a basic understanding of pediatric environmental health issues to all health professionals must be the ultimate goal.

EPA's National Agenda to Protect Children's Health from Environmental Threats directed the Agency to expand educational efforts, in partnership with health professionals, to identify, prevent and reduce environmental health threats to children. EPA has supported a number of efforts to educate health professionals including: (1) A series of workshops for chief pediatric residents; (2) a continuing education program for nurses; (3) the development of materials for a national health professional training program; (4) an initiative to educate health professionals about pesticides; (5) Pediatric Environmental Health Specialty Units; and (6) training modules for school nurses on environmental triggers of asthma. This request for proposals seeks to build on these efforts to increase the number of health professionals who are able to address environmental health risks to children.

2. Funding Priorities

In accordance with EPA's National Agenda to Protect Children's Health from Environmental Threats, EPA requests proposals that will strengthen the capacity of health professionals to address environmental health risks to children. Health professionals who have a basic understanding of environmental health issues will be better able to identify, prevent, manage and reduce environmental health threats to children. This is an initial announcement for “Building Health Professional Capacity to Address Children's Environmental Health.”

The purpose of this solicitation is to continue to build on the efforts to educate health professionals and to understand how these efforts have been incorporated into practice. The ultimate outcome of this effort will be to increase the number of health professionals who have knowledge about children's environmental health and are incorporating that knowledge into their practice.

Many factors can affect health outcomes, such as asthma attacks. It can be difficult to quantify the exact contribution that improved health professional knowledge of environmental health risks to children might have on a specific health outcome. While it may be difficult to understand how many asthma attacks were prevented as a result of the education of health professionals, it is possible to understand what health professionals are doing to incorporate environmental health concepts into their daily practice. This should in turn lead to prevention and reduction of environmental exposures to children.

Proposals must address both phases of this project: (1) Provide education or training on pediatric environmental health issues to health professionals and (2) evaluate the incorporation of this education or training into individual practices and/or the practices, protocols, and procedures of whole clinics or other institutions.

All proposals must detail how they will deliver education or training in pediatric environmental health to health professionals to achieve each of these seven competencies adapted from the Institutes of Medicine (IOM) publications: Nursing, Health, and the Environment: Strengthening the Relationship to Improve the Public's Health (page 5) and Environmental Medicine: Integrating a Missing Element into Medical Education (page 3) and from The National Environmental Education and Training Foundation's National Pesticide Competency Guidelines for Medical and Nursing Education (page 20).

Upon completion of this project, health professionals should be able to:

(1) Understand the influence of environmental agents on children's health;

(2) Recognize signs, symptoms, diseases and sources of exposure relating to common environmental agents and conditions;

(3) Complete a pediatric environmental health history and recognize potential environmental hazards and sentinel illnesses;

(4) Recommend a course of preventative action or make appropriate referrals for conditions with probable environmental etiologies as appropriate for their professional disciplines;

(5) Demonstrate a knowledge of risk communication in patient care and community intervention with respect to the potential adverse effects of the environment on health; and;

(6) Recognize the full range of resources available to support their work in the field of pediatric environmental health; and

(7) Understand reporting requirements and regulations.

Further, the proposal must define how they will measure the impact of the training or education upon both the knowledge base of the practitioner and the effect that this program has had upon the individual's daily practice and/or the practices, protocols, and procedures of whole clinics or other institutions.

Proposals must meet the statutory criterion detailed below and the program criteria listed in Section V.

3. Authorities

To be eligible to compete for these funds, applicants must be eligible under section 103 of the Clean Air Act, section 104 of the Clean Water Act, section 1442 of the Safe Drinking Water Act, section 10 of the Toxic Substances Control Act, and section 102(2)(f) of the National Environmental Policy Act for international awards.

The following statutory criterion must be met for projects to be considered for funding:

A project must consist of activities authorized under one or more authorities cited above. Most of the statutes authorize grants for: “research, investigations, experiments, demonstrations, surveys and studies.” These activities relate generally to the gathering or transferring of knowledge. Grant proposals should emphasize a “learning” concept, as opposed to “fixing” a specific environmental problem through a well-established method. The project's activities must advance the state of knowledge or transfer information to other practitioners in the field. The statutory term “demonstration” can encompass the first application of an approach or an innovative application of a previously used method. The term “research” may include the application of established practices as they contribute to “learning” about the effectiveness of an environmental approach.

The goal of the Children's Environmental Health Protection program is to minimize and/or eliminate children's exposure to environmental health threats—recognizing children's special vulnerability to these threats and recognizing the possibility of preventable childhood exposures leading to lifelong, irreversible consequences. This program is included within the Catalogue for Domestic Assistance (CFDA) listing number: 66.609 found at http://www.cfda.gov.

Section II. Award Information

EPA anticipates awarding approximately two to three grants from these proposals. Funds available for these projects are expected to total approximately $300,000. Grants may be requested for a total of $100,000 to $150,000 for a two year performance period. Proposals for less than $100,000 and more than $150,000 will not be considered. Final grants are subject to the availability of funds. EPA reserves the right to make no awards. No cost sharing or match contributions are required. It is expected that grants will begin around June 15, 2005 and be completed no later than September 30, 2007.

Projects not funded under this solicitation will be retained on file for a period of one year from the closing date of this solicitation and made available for potential funding by OCHP and other EPA offices.

Projects may expand upon ongoing work within the focus of this solicitation. However, the boundaries of the previous and proposed work under this solicitation must be clear in terms of the new work to be done and the budget to support the new proposal.

The applicant may propose either a grant or cooperative agreement. If the applicant chooses to submit a proposal for a cooperative agreement, the Agency will have substantial involvement in the project. The applicant must define the expectations for Agency involvement in the project. Such involvement may mean EPA review and approval of project scope and phases; EPA participation in and collaboration on, various phases of the work; EPA review of draft and final work products; regular e-mail, phone and conference calls.

Section III. Eligibility Information

1. Eligible Applicants

a. Eligible Applicants:

Applicants must be eligible under at least one of these authorities: Section 103 of the Clean Air Act, section 104 of the Clean Water Act, section 1442 of the Safe Drinking Water Act, section 10 of the Toxic Substances Control Act, and section 102(2)(f) of the National Environmental Policy Act for international awards. Eligible applicants include: academic institutions, non-profit organizations, state, local, and tribal governments. Private businesses, federal agencies, and individuals are not eligible to be grant recipients; however, they may work in partnership with eligible applicants on projects.

b. Non-profit Status:

Applicants are not required to have a formal Internal Revenue Service (IRS) non-profit designation, such as 501(c)(3) or 501(c)(4); however, they must present in their Pre-application Proposal their letter of incorporation or other documentation demonstrating their non-profit or not-for-profit status. This requirement does not apply to public agencies or federally-recognized tribes. Failure to enclose a letter of incorporation or other documentation demonstrating non-profit or not-for-profit status will render Pre-application Proposals incomplete and they will not be reviewed. Applicants who do have an IRS 501(c)(4) designation are not eligible for grants if they engage in lobbying, no matter what the source of funding for the lobbying activities. No recipient may use grant funds for lobbying. For profit enterprises are not eligible to receive sub-grants from eligible recipients, although they may receive contracts, subject to EPA regulations on procurement under assistance agreements, 40 Code of Federal Regulations (CFR) 30.40 (for non-governmental recipients) and 40 CFR 31.36 (for governments).

c. Tribal Status:

Tribal applicants must supply documentation of their authorizing tribal resolution.

d. Intergovernmental Review of Federal Programs (SPOC List):

Applicants must adhere to the provisions of The Executive Order 12372, “Intergovernmental Review of Federal Programs” (SPOC List) applies. See http://www.whitehouse.gov/omb/grants/spoc.html for further information.

e. Incurring Costs:

Pre-award costs will not be covered under this solicitation. Grant recipients may begin incurring allowable costs on the date identified in the EPA award agreement. Activities must be completed and funds spent within the time frames specified in the award agreement. EPA grant funds may be used only for the purposes set forth in the grant agreement and must conform to the Federal cost principles contained in OMB Circular A-87; A-122; and A-21, as appropriate. Ineligible costs will be reduced from the final grant.

2. Cost Sharing or Matching

Cost sharing or matching funds are not required for this solicitation.

3. Other-Eligibility Criteria

a. Responsiveness Criteria That Will Make an Application Ineligible:

(1) Letters of Intent

The Letter of Intent must comply with the following responsiveness criteria to be eligible to submit a Pre-application Proposal: applicant eligibility, completeness, administrative responsiveness, and timeliness of submission.

(2) Pre-Application Proposal

The Pre-application Proposal must comply with the following responsiveness criteria for the Pre-application Proposal to be reviewed for possible award: timeliness of shipment, administrative responsiveness, order of materials presentation, completeness, original signatures as required, required number of copies and the absence of unnecessary materials and extraneous information.

b. Multiple Proposals:

Applicants may submit only one proposal under this solicitation. Applicants are encouraged to collaborate with other organizations with complementary expertise in a joint proposal.

c. Responsible Officials:

Projects must be performed by the applicant or a person approved by the applicant and EPA. Proposals must identify any person(s) other than the applicant who will assist in carrying out the project. Recipients are responsible for receiving the grant award agreement from EPA and ensuring that grant conditions are satisfied. Recipients are responsible for the successful completion of the project.

Section IV. Application and Submission Information

1. Address To Request Application Package

A three-stage application process will be used. Stage 1 Letters of Intent (up to two pages in length) must be submitted to the U.S. EPA Office of Children's Health Protection by e-mail to blackburn.elizabeth@epa.gov (or by fax (202) 564-2733 only if e-mail is unavailable) by October 25, 2004. Applicants with satisfactory Letters of Intent will be invited to submit a Stage 2 Pre-application Proposal which must be shipped on or before December 13, 2004. Applicants whose Pre-applications are selected for possible award will be contacted individually and asked to complete additional forms for the Stage 3 Full Proposal prior to award.

This solicitation notice contains all the instructions needed for preparing the Stage 1 Letter of Intent and, if invited by EPA, the Stage 2 Pre-application Proposal. A sample Letter of Intent is provided at the end of this solicitation. Paper copies of this announcement, the sample Letter of Intent and the requisite forms for the Pre-application Proposal can be obtained by contacting EPA personnel listed in Section VII of this solicitation. Electronic copies of the requisite forms for the Pre-application Proposal are available at http://yosemite.epa.gov/ochp/ochpweb.nsf/content/grants.htm or at: http://www.epa.gov/ogd/grants/how_to_apply.htm. If your Pre-application Proposal is selected for possible award, you will receive the forms and individual instruction in completing Stage 3, the Full Proposal. These forms, known as the EPA Application Kit for Federal Assistance, will be available at: http://yosemite.epa.gov/ochp/ochpweb.nsf/content/grants.htm. or at: http://www.epa.gov/ogd/grants/how_to_apply.htm.

2. Content and Form of Application Submission

a. Stage 1 Letter of Intent:

Stage 1 of this three-stage application process is a Letter of Intent (up to two pages in length) which is due via e-mail to blackburn.elizabeth@epa.gov by October 25, 2004. Letters of Intent must have an e-mail subject line starting with Letter of Intent: followed by your Project Title. E-mail confirmation of receipt will be sent promptly.

E-mail submission of the Letter of Intent is strongly preferred. However, if e-mail is not available, the Letter of Intent may be faxed to the attention of Elizabeth Blackburn at (202) 564-2733. If a confirming phone call for fax transmissions is not received within two business days, a phone call should be made to Elizabeth Blackburn at (202) 564-2192 to initiate a trace.

Applicants submitting a Letter of Intent will be notified via e-mail on or before November 1, 2004 if they are invited to submit a Pre-application Proposal.

A sample Letter of Intent is provided at the end of this solicitation. A copy also can be found at: http://yosemite.epa.gov/ochp/ochpweb.nsf/content/grants.htm. Your Letter of Intent must provide all of the following information in the following order in no more than two pages:

(Section 1) Contact Information for the Applicant Organization

a. Name of your organization.

b. Project name.

c. Name of authorized representative.

d. Address.

e. Phone number and fax number.

f. E-mail address.

g. Web site, if any.

(Section 2) Project Summary Including

a. Amount of the Request ($);

b. Description of how this project responds to the statutory criterion defined in this solicitation;

c. Description of the organization which will lead/oversee the project;

d. Description of the organizations and individuals expected to participate in the two phases (training/education and measurement) of the project;

e. Description of the general children's environmental health areas to be addressed;

f. Description of the general approach and format that is planned for the two phases (training/education and measurement) of the project;

g. Description of the specific audience(s), e.g., type of health professional(s) to be trained; expected numbers you hope to reach; geographic range of applicability [multi-state (at least 5 states), national, international (at least 3 countries)];

h. Description of the types of materials (e.g., classroom guides, check-lists, pamphlets for patients, etc.) you expect to produce. (Note: A wide variety of children's environmental health training materials for health professionals, developed by both government and non-governmental agencies, already exist. Support for the development and production of new training/educational materials will be considered only if the applicant demonstrates a compelling need not filled by existing materials. Justifications for the development of new educational materials should include a literature search demonstrating a strong familiarity with the range of existing materials available);

i. List of other types of health professionals to whom this training/education might be applicable;

j. Transferability of training, materials and measurement tools to others to train additional groups of health professionals.

b. Stage 2 Pre-application Proposals, If Invited By EPA:

Stage 2 of this three-stage application process is a Pre-application Proposal. Note: If your Letter of Intent is accepted, you will be invited to participate in Stage 2.

Note: Applicants should periodically check the web page below for updated information to applicants: http://yosemite.epa.gov/ochp/ochpweb.nsf/content/grants.htm.

a. List of Required Content Elements of Pre-application Proposal:

(1) Table of Contents with page numbers for all elements of this submission;

(2) Summary Cover Page (Described Below);

(3) Copy of the previously submitted Letter of Intent;

(4) Completed Federal Forms: SF-424 and SF-424(A) (Section B-Budget Categories). http://www.epa.gov/ogd/grants/how_to_apply.htm contains information about completing SF-424(A) Budget Forms and Understanding Cost Principles for a Federal grant;

(5) Budget Narrative;

(6) Brief Resume or Bio of the Principle Investigator or Project Director; and

(7) Project Narrative;

Appendices;

b. Detailed Content and Form of Pre-application Proposal:

The overall Pre-application Proposal is limited to 14 pages excluding the SF-424 and SF-424(A) and the Appendices. Materials must follow exactly the format outlined below. Pages and information submitted out of order will not be reviewed. Text may be single or double spaced, no smaller than 12 point font. The pages must be letter sized (8½ × 11 inches). Margins are not specified. Proposals must be legible. Note: All proposals should be well explained and easily read. Information should be clear and concise, well organized and contain no unnecessary jargon. Please submit the original (with original signatures in contrasting) and nine copies of the complete Pre-application Package including:

(1) Table of Contents with page numbers for all elements of this submission

(2) Summary Cover Page (Not more than one page): The summary cover page should not exceed one page in length and should include, in this order;

(a) Building Health Professional Capacity to Address Children's Environmental Health; USEPA-AO-OCHP-04-03;

(b) Project title and location;

(c) Applicant's name, address, telephone and fax numbers, and mailing address;

(d) Name and title of project contact (including how to reach if different from above);

(e) Type of applicant organization (e.g., non-profit, university, etc.); non-profit number;

(f) Total budget request, dollar amount, from the U.S. EPA for this project;

(g) Brief abstract of this proposal (5-10 lines);

(3) Completed SF-424 and SF-424(A) (Section B—Budget Categories). For federal government forms including Budget Forms and Understand Cost Principles for a Federal Grant: See http://yosemite.epa.gov/ochp/ochpweb.nsf/content/grants.htm

(4) Budget Narrative: (1-2 pgs.);

(a) Personnel (For Each Position: % of Time Worked, Annual Salary, Salary Proposed for this Project);

(b) Fringe Benefits (Full-time Rate);

(c) Long Distance Travel (Destination, Cost of Trip, No. of Travelers, No. of Trips, Amt. Proposed);

(d) Air Fare (Destination, No. Travelers, No. Trips);

(e) Local Travel (Destination, Distance, Mileage, No. Travelers);

(f) Direct Cost-Equipment (Quantity, Cost per Unit, Amt. Proposed);

(g) Direct Cost-Supplies (Quantity, Cost per Unit, Amt. Proposed);

(h) Direct Cost-Other, e.g., Phone, Postage, Conference Calls (Quantity, Cost per Unit, Amt. Proposed);

(i) Direct Cost-Contracts (Direct Labor, Overhead @_rate, Materials and Supplies, G&A Rate);

(j) Direct Cost-Consultants (Skill, Quantity, Rate);

(k) Indirect Cost Charges (Total Direct Costs × _% (indirect cost rate) = Estimated);

Note: Eligible Expenses-salaries/fringe, travel, communications, equipment rental, indirect overhead, public outreach efforts (workshops, public forums, meeting expenses), office expenses, printing and copying (conference and promotional materials), and Web site dissemination of information related to the project.

Note: Ineligible Expenses-capital expenditures, construction expenses, lobbying, endowments, formal educational expenses, entertainment, remediation and removal expenses, medical equipment and supplies, air sampling, and equipment purchases as the sole focus of the assistance agreement.

(5) Letter of Intent: Include a copy of your previously submitted Letter of Intent as a project summary;

(6) Project Description (Up to 5 pages): Describe precisely what your project will achieve. In your narrative, answer these questions in this order;

(a) Description of the lead organization for the project including information to establish this organization has a proven track record and is viewed as an authority in the design and implementation of (1) The training of health professionals on children's environmental health and, (2) the measurement of the application of this training in their practices over time;

(b) Description of who will conduct the project; what are the specific roles of all major participants? What experience do any partners have in training health professionals or measuring the outcome of training upon the trainee's practice?

(c) Who is the target audience for this training? How will they be targeted, identified and recruited?

(d) Brief summary of the project's goals and objectives;

(e) Brief summary of the method that will be used to accomplish Phase 1 (training). (Note: A wide variety of children's environmental health training materials for health professionals, developed by both government and non-governmental agencies, already exist. Support for the development and production of new training/educational materials will be considered only if the applicant demonstrates a compelling need not filled by existing materials. Justifications for the development of new educational materials should include a literature search demonstrating a strong familiarity with the range of existing materials available.);

(f) Brief summary of the method that will be used to accomplish Phase 2 (measurement); How will you evaluate the impact of the training upon the practices of these health care providers as well as their patients and their families over time?

(g) Brief description of why this type of training is important for this group of health professionals. How do you anticipate that this training will change the practice of health care following this training?

(h) How will the learning that has occurred during this training be reinforced? How can this training be sustained beyond the life of this EPA grant?

(i) How will this training model, materials and findings be presented/packaged to be shared with and replicated by others who might seek to train health professionals on children's environmental health?

(7) Brief Resume or Bio of Principal Investigator or Project Director (no more than one page;

(8) Appendices: Include letters of commitment for all major partners or organizations including resumes or bios of key personnel other than the Principal Investigator as appendices. Be certain that letters of commitment focus on partners' roles in the proposed project. Do not include any material other than letters of commitment and information on key personnel;

c. Other Instructions;

(1) To support the EPA review process, the proposal must contain one complete Pre-application Proposal package with original signatures in contrasting ink and nine duplicate hard copy sets of the Pre-application Proposal package as defined above both in terms of exact format and content;

(2) DUNS Instructions: Grant applicants are required to provide a Dun and Bradstreet (D&B) Data Universal Numbering System (DUNS) number when applying for Federal grants or cooperative agreements. The DUNS number will supplement other identifiers required by statute or regulation, such as tax identification numbers. Organizations can receive a DUNS number in one day, at no cost, by calling the dedicated toll-free DUNS Number request line at 1-866-705-5711. Individuals who would personally receive a grant or cooperative agreement award from the Federal government apart from any business or non-profit organization they may operate are exempt from this requirement. The Web site where an organization can obtain a DUNS number is: http://www.dnb.com. This process takes 30 business days and there is no cost unless the organization requests expedited (1-day) processing, which includes a fee of $40;

(3) Successful Stage 2 Applicants must submit the following information after EPA notifies them of its intent to make an award: quality assurance plan for any project involving environmental data; evidence of compliance with human subjects requirements where research is found to be involved.

3. Submission Dates and Times

(a) All questions must be sent by e-mail to the following address: blackburn.elizabeth@epa.gov. The word “QUESTION” in Capital Letters and the name of the solicitation should appear in the Subject Line. Answers to allowable questions will be provided in a timely manner at: http://yosemite.epa.gov/ochp/ochpweb.nsf/content/grants.htm. EPA will not respond to technical questions by phone or fax.

(b) A required Letter of Intent is due via e-mail to blackburn.elizabeth@ epa.gov by October 25, 2004. Letters of Intent must have an e-mail subject line starting with Letter of Intent: followed by your Project Title. E-mail confirmation of receipt will be sent promptly. E-mail submission of the Letter of Intent is strongly preferred. However, if e-mail is not available, the Letter of Intent may be faxed to the attention of Elizabeth Blackburn at (202) 564-2733. If a confirming phone call for fax transmissions is not received within two business days, a phone call should be made to Elizabeth Blackburn at (202) 564-2192 to initiate a trace.

(c) Applicants submitting a Letter of Intent will be notified via e-mail on or before November 1, 2004 if they are invited to submit a Pre-application Proposal.

(d) To ensure fair and open competition, EPA will respond to questions submitted by e-mail up to December 6, 2004.

(e) Due Date—December 13, 2004 for Pre-application Proposals from invited eligible applicants to be delivered to the courier for shipment or postmarked (see note below re: postal mailing). Pre-application Proposals shipped or mailed after this date will not be considered for funding under this solicitation. Date of shipment will be determined by the shipping company's shipping information or the U.S. Post Office (not a private postage meter) postmark on the shipping package depending upon the method of shipment. To support the EPA review process, the proposal must contain one complete Pre-application Proposal package with original signatures and nine duplicate hard copy sets of the Pre-application Proposal package including materials in the order listed above in Section IV.

(f) Applicants will receive an e-mail notification of receipt of the Pre-application Proposal within two weeks of receipt by the Agency.

(g) The Selected Projects will be announced as their award negotiations are completed around late spring 2005. Those projects not selected for award in this funding cycle will also be notified at this time.

(h) Start Date for Projects: June 15, 2005 is the earliest start date that applicants should plan on and enter on their proposal forms and time lines. Grant recipients may begin incurring allowable costs on the start date identified in the EPA grant award agreement. Budget periods may run up to 24 months from the date of award.

4. Intergovernmental Review

Applicants may be subject to Executive Order 12372. “Intergovernmental Review of Federal Programs.” See http://www.whitehouse.gov/omb/grants/spoc.html for more details.

5. Funding Restrictions

a. Eligible Expenses:

Salaries/fringe, travel, communications, equipment rental, indirect overhead, public outreach efforts (workshops, public forums, meeting expenses), office expenses, printing and copying (conference and promotional materials), and Web site dissemination of information related to the project.

b. Ineligible Expenses:

Capital expenditures, construction expenses, lobbying, endowments, formal educational expenses, entertainment, remediation and removal expenses, medical equipment and supplies, air sampling, and equipment purchases as the sole focus of the assistance agreement.

c. Incurring Costs:

No pre-award costs should be incurred by the recipient. Grant recipients may begin incurring allowable costs on the start date identified in the EPA grant award agreement. Activities must be completed and funds spent within the time frames specified in the award agreement. EPA grant funds may be used only for the purposes set forth in the grant agreement and must conform to the Federal cost principles contained in OMB Circular A-87, A-122, and A-21, as appropriate. Ineligible costs will be reduced from the final grant award.

6. Other Submission Requirements

a. Do not submit additional items. Unnecessary materials (i.e., un-requested forms or binders) create extra burden for the reviewers and will not be reviewed. Failure to follow instructions may render your project ineligible.

b. A required Letter of Intent is due via e-mail to blackburn.elizabeth@ epa.gov by October 25, 2004. Letters of Intent must have an e-mail subject line starting with Letter of Intent: followed by your Project Title. E-mail confirmation of receipt will be sent promptly.

E-mail submission of the Letter of Intent is strongly preferred. However, if e-mail is not available, the Letter of Intent may be faxed to the attention of Elizabeth Blackburn at (202) 564-2733. If a confirming phone call for fax transmissions is not received within two business days, a phone call should be made to Elizabeth Blackburn at (202) 564-2192 to initiate a trace.

c. Due to continued mail delays in the Washington, DC area, applicants invited to submit a Pre-application Proposal are strongly encouraged to ship their proposals by private courier (e.g., Federal Express, UPS, DHL, etc.) to the attention of: Elizabeth Blackburn, U.S. EPA, Office of Children's Health Protection, 1200 Pennsylvania Ave, NW., Mail Code 1107A, Room 2512 Ariel Rios North, Washington, DC 20004.

If Pre-application Proposals are must be mailed, send them with tracking to: Elizabeth Blackburn, U.S. EPA, Office of Children's Health Protection, 1200 Pennsylvania Ave, NW., Mail Code 1107A, Room 2512 Ariel Rios North, Washington, DC 20460.

Note: To document the date of shipment, Full Proposal packages must be postmarked by the U.S. Post Office, not by a private postage meter.

d. If the applicant experiences technical difficulties in making a submission, contact Elizabeth Blackburn at (202) 564-2192 immediately.

3. Stage 3 (Full Proposal) Required Content and Form of Full Proposal if Selected by EPA

The EPA Application Kit for Federal Assistance can be obtained at: http://yosemite.epa.gov/ochp/ochpweb.nsf/content/grants.htm. or at: http://www.epa.gov/ogd/grants/how_to_apply.htm.

Section V. Application Review Information

1. Criteria

a. Letter of Intent:

(1) Administrative Responsiveness Criteria

The Letter of Intent must comply with the following responsiveness criteria to be eligible to submit a Full Proposal: applicant eligibility, completeness, administrative responsiveness, and timeliness of submission.

(2) Technical Responsiveness Criteria

The Letters of Intent will also be compared to the statutory criterion and evaluation criteria in Section I of this solicitation. Applicants whose projects are clearly not responsive to the published evaluation criteria may not be invited to submit a Pre-application Proposal.

b. Pre-application Proposal, If Invited by EPA:

(1) Administrative Responsiveness Criteria

The Pre-application Proposal must comply with the following responsiveness criteria for the Pre-application Proposal to be reviewed for possible award: timeliness of shipment, administrative responsiveness, order of materials presentation, completeness, original signatures as required, required number of copies and the absence of unnecessary materials and extraneous information.

(2) Multiple Proposals

Applicants may submit more than one proposal if the proposals are for different projects. However, no more than one grant will be awarded under this offering to any given applicant.

(3) Technical Review

Applications that pass the Administrative Review will be evaluated by a team of reviewers from both EPA and outside who are authorities in the field. Reviewers will score each proposal in the areas listed below. In summary, the maximum score of 110 points can be reached as follows:

(a) Organization—up to 10 points.

(b) Target Audience—up to 15 points.

(c) Training Design—up to 25 points.

(d) Measurement Design—up to 25 points.

(e) Materials—up to 10 points.

(f) Budget and Timeline—up to 15 points.

(g) Bonus—up to 10 points.

(a) Organization (up to 10 points)

The proposal should demonstrate that the organization(s) designing and delivering the training has/have a proven track record and is/are viewed as an authority in: (1) The training or education of health professionals on children's environmental health and, (2) the measurement of the application of this training or education into their individual practice and/or the practices, protocols, and procedures of whole clinics or other institutions, over time;

(b) Target Audience (up to 15 points)

The proposed project should reach a large group of health professionals who interact directly or indirectly with children and should address the following questions. How has the target audience been defined? How relevant is the children's environmental health message to the work of this particular group of health professionals? How will the target audience be recruited? What incentives (i.e., CEUs/CMEs, stipends, tuition reimbursement etc.) will be used and how effective are they likely to be with this audience? How many health professionals will be trained directly and/or trained through train-the-trainer agreements? What is the demonstrated reach of the health professionals to influence their peers and others in allied health professions following the training?;

(c) Training Design (up to 25 points)

The Training Design should incorporate the seven competencies described above and outline how they will be incorporated into the training or education project. The Training Design should include the specific goals, objectives, outputs, and outcomes of this project and discuss the relationship of these to the target audience. In addition, the following questions should be addressed: How comprehensive is the scope of children's environmental health issues to be addressed? What activities and delivery methods will be used to present the materials and reinforce the learning? Is the list of training activities comprehensive (including all steps) and logical to achieve the children's environmental health competencies relevant to this group of health professionals? How adaptable is this training to other groups of health professionals? Will this material be made available to other presenters by this organization?

(d) Measurement Design (up to 25 points)

Understanding the effectiveness of the training or education project is key to supporting future efforts to build health professional capacity to address pediatric environmental health. The proposal should outline the project's Measurement Design. The Measurement Design should include discussion of: (1) How the actual training or education program will be evaluated (how will the training or education program increase the knowledge of health professionals regarding pediatric environmental health); (2) how achievement of each of the seven competencies will be evaluated; (3) how replicability of the project will be evaluated; and (4) how the effect that this training or education program has had upon the individual's daily practice and or the practices, protocols, and procedures of whole clinics or other institutions will be evaluated. The following questions may assist you in the description of the Measurement Design. How will the design measure the impact of the training upon both the knowledge base of the practitioner and the effect that this training has had upon the individual's daily practice both immediately and over time. How well will these new children's environmental health messages reach the children, their families and care givers? How will the measurement findings (quantitative and qualitative) be used to improve the effectiveness of future training on children's environmental health competencies by this organization? How will the accomplishments of this training program be shared with others in the field?

(e) Materials (up to 10 points)

A wide variety of children's environmental health training materials for health professionals, developed by both government and non-governmental agencies, already exist. Support for the development and production of new training/educational materials will be considered only if the applicant demonstrates a compelling need not filled by existing materials. Justifications for the development of new educational materials should include a literature search demonstrating a strong familiarity with the range of existing materials available. Describe the educational products and materials that will be used train the target audience in the children's environmental health competencies. Have existing materials been utilized to the maximum extent practicable? Do training materials consistently reference peer reviewed science? Are training materials readily adaptable to other audiences? How do the training materials reinforce competencies?

(f) Budget, and Time Line (up to 15 points)

The budget information must clearly and accurately demonstrate how funds will be used. Is the funding request reasonable given the activities proposed? Do the funds provide a good return on the investment? Is the time line well laid out, comprehensive, reasonable and feasible to support the accomplishment of the stated goals and objectives of this project's two phases?

(g) Bonus Points (up to 10 points)

(1) Ultimately the training or education of the health professional should lead to a reduction in environmental exposures and healthier children. Does the project measure the impact of the health professionals' training on behavior changes in parents and care givers? How will the project measure a reduction in exposure of children to environmental hazards?

(2) Education and training is a continuous process. This solicitation recognizes the importance of developing and sustaining mechanisms that can support health professionals in their efforts to identify, prevent, and manage environmental risks to children. Bonus points can be awarded if mechanisms are developed and supported to reinforce this training or education. (Examples include, but are not limited to: Networks, list serves, materials to guide the health professional to address the key children's environmental health issues in patient histories and evaluations, publications, efforts to develop committees and local chapters on children's environmental health within the health professionals' societies, presentations at conferences).

2. Review and Selection Process

After individual projects are evaluated and scored and ranked against the published criteria by EPA staff and peers external to the Agency, EPA may take into account the following factors in making the final selections:

a. Effectiveness of collaborative activities and partnerships, as needed to successfully implement the project;

b. Range of disciplines trained through this project; Transferability of this training to other health professional disciplines; and

c. Geographic reach and distribution of projects.

Section VI—Award Administration Information

1. Award Notices

Organizations submitting Letters of Intent will be notified regarding their successful or unsuccessful Stage 1 application via e-mail on or before November 1, 2004. Successful Pre-applicants will be notified on or about February 1, 2005. Unsuccessful applicants will be informed through a letter or e-mail sent to the Project Director provided in the Pre-application Proposal. Successful Pre-applicants will be contacted by the EPA grants project officer to discuss the completion of a Full Proposal. Upon the satisfactory completion of all necessary materials, the applicant will receive written notice of award. The applicant must receive this document prior to drawing funds for this project. This document will serve as the authorizing document. The award notice will be faxed to the Key Contact designated by the applicant in the Full Proposal.

2. Administrative and National Policy Requirements

a. Responsible Officials:

Projects must be performed by the applicant/recipient or a designee within that organization who is satisfactory to the applicant and EPA. All proposals must identify any other person(s) and their organization(s) who will assist in carrying out the project. Recipients are responsible for receiving the grant award agreement from EPA and ensuring that all grant conditions are satisfied. Recipients are responsible for the successful completion of the project.

b. Incurring Costs:

No pre-award costs should be incurred by the recipient. Grant recipients may begin incurring allowable costs on the start date identified in the EPA grant award agreement. Activities must be completed and funds spent within the time frames specified in the award agreement. EPA grant funds may be used only for the purposes set forth in the grant agreement and must conform to the Federal cost principles contained in OMB Circular A-87, A-122, and A-21, as appropriate. Ineligible costs will be reduced from the final grant award.

c. Materials to be Provided by the Successful Stage 2 Applicants After EPA Notifies Them of its Intent to Make an Award:

The Successful Stage 2 Pre-applicant must submit the following information after EPA notifies them of its intent to make an award, but prior to the award: quality assurance plan for any project involving environmental data; evidence of compliance with human subjects requirements where research is found to be involved.

3. Reporting

Specific financial and other reporting requirements will be identified in the EPA grant award agreement. Grant recipients must submit the standard formal quarterly progress reports, unless otherwise instructed in the award agreement. A quality assurance plan will be required if environmental data are collected. Also, two copies of the final report and two copies of all work products must be sent to the EPA project officer within 90 days after the expiration of the budget period. This submission will be accepted as the final requirement, unless the EPA project officer notifies the recipient that changes must be made.

Section VII—Agency Contact

1. Contact Information

Elizabeth Blackburn, Office of Children's Health Protection; 1200 Pennsylvania Ave, NW.; Mail Code 1107A; Room 2512 Ariel Rios North; Washington, DC 20004-2403; blackburn.elizabeth@epa.gov; Phone: (202) 564-2192; FAX: (202) 564-2733; Web site: http://yosemite.epa.gov/ochp/ochpweb.nsf/content/grants.htm.

2. Mechanisms for Questions and Answers

a. Applicants who need more information about this grant or clarification about specific requirements of this Solicitation Notice, should periodically check the Web page http://yosemite.epa.gov/ochp/ochpweb.nsf/content/grants.htm for posted information (e.g., administrative clarification and responses to Qs & As).

b. Specific clarifying questions can be posed via e-mail to blackburn.elizabeth@epa.gov. The word “QUESTION” in capital letters and the name of the solicitation should appear in the subject line. Responses to allowable questions will be posted in a timely manner on the OCHP Web site at: http://yosemite.epa.gov/ochp/ochpweb.nsf/content/grants.htm.

c. If e-mail is absolutely not available, questions and requests for materials may be made by FAX to 202-564-2733. Requests should be sent to the attention of Elizabeth Blackburn.

d. To ensure fair and open competition, EPA will answer no clarifying questions in person.

e. Applicants may submit questions via e-mail to blackburn.elizabeth@epa.gov. Answers will be posted on the Web page http://yosemite.epa.gov/ochp/ochpweb.nsf/content/grants.htm.

f. To ensure fair and open competition, EPA will respond to questions submitted by e-mail up to December 6, 2004. Questions and answers will be posted in a timely manner at: http://yosemite.epa.gov/ochp/ochpweb.nsf/content/grants.htm.

3. If paper copies of the EPA Application Kit for Federal Assistance are required, contact Elizabeth Blackburn at blackburn.elizabeth@epa.gov.

Section VIII—Other Information

1. Resources

a. Please visit our Web site, http://yosemite.epa.gov/ochp for information on children's environmental health issues. Copies of these grant materials can be found at http://yosemite.epa.gov/ochp/ochpweb.nsf/content/grants.htm.

b. We strongly suggest that applicants examine the Institute of Medicine documents Environmental Medicine: Integrating a Missing Element into Medical Education and Nursing, Health, and the Environment: Strengthening the Relationship to Improve the Public's Health as well as The National Environmental Education and Training Foundation National Pesticide Competency Guidelines for Medical and Nursing Education for background on children's environmental health competencies for health professionals.

c. A non-comprehensive, unendorsed sample list of additional references related to building health professional capacity to address children's environmental health is provided in Appendix II.

d. First time recipients of Federal funds are encouraged to familiarize themselves with the regulations applicable to assistance agreements found in the Code of Federal Regulations (CFR) Title 40, Part 31 for State and local government entities. See http://www.epa.gov/docs/epacfr40/chapt-I.info/subch-B.html. Applicants may also obtain a copy of the CFR Title 40, Part 31 at the local U.S. Government Bookstore, or through the U.S. Government Printing Office. This solicitation notice contains all the information and forms necessary to prepare a Letter of Intent. If your project is selected as a finalist after the evaluation process is concluded, EPA will provide you with additional Federal forms needed to process your Full Proposal.

2. Regulatory References

EPA's regulations on procurement under assistance agreements can be found in 40 Code of Federal Regulations (CFR) 30.40 for non-governmental recipients.

3. Dispute Resolution Process

Dispute Resolution Process: Procedures are in 40 CFR 30.63 and 40 CFR 31.70.

4. Shipping Information and Mailing Addresses

a. Letters of Intent should be e-mailed to: blackburn.elizabeth@epa.gov. E-mail submission of the Letter of Intent is strongly preferred. However, if e-mail is not available, the Letter of Intent may be faxed to the attention of Elizabeth Blackburn at (202) 564-2733. If a confirming phone call for fax transmissions is not received within two business days, a phone call should be made to Elizabeth Blackburn at 202-564-2192 to initiate a trace.

b. Pre-application Proposals, If Invited By EPA:

Due to on-going mail delays in the Washington, DC area, applicants who are invited to submit a Pre-application Proposal are strongly encouraged to send all the original Pre-application Proposals signed in contrasting ink by an authorized representative of their eligible organization and requisite nine copies by way of a private shipping company (e.g., Federal Express, UPS, DHL, or courier) to the attention of: Elizabeth Blackburn, U.S. EPA, Office of Children's Health Protection, 1200 Pennsylvania Ave, NW., Mail Code 1107A, Room 2512 Ariel Rios North, Washington, DC 20004.

If the applicant has no ability to send the Pre-application Proposal original and requisite nine copies in by way of a private shipping company, the Pre-application Proposal may be mailed to the attention of: Elizabeth Blackburn, U.S. EPA, Office of Children's Health Protection, 1200 Pennsylvania Ave, NW., Mail Code 1107A, Room 2512 Ariel Rios North, Washington, DC 20460.

5. The Agency reserves the right to make no awards under this solicitation

Appendix I—Sample Letter of Intent (up to 2 pages)

All applicants should supply this information in this order and return it to EPA via e-mail to blackburn.elizabeth@epa.gov by October 25, 2004.

Section 1

Organization Name:

Project Name:

Applicant Address:

Street:

City:

State:

Zip Code:

Applicant Phone Number:

Applicant FAX Number:

Applicant E-mail Address:

Applicant Web Site (if any):

Authorized Representative of the Organization:

Section 2

Project Summary.

(a) Dollar Value of the Request;

(b) Description of the organizational which will lead/oversee the project;

(c) Description of the organizations and individuals expected to participate in the two phases (training/education and measurement) of the project;

(d) Description of the goals of each phase of the project;

(e) Description of the general children's environmental health areas to be addressed;

(f) Description of the general approach and format that is planned for the two phases of the project;

(g) Description of the specific audience(s) e.g. type of health professional(s) to be trained; expected numbers you hope to reach; geographic range of applicability [multi-state (at least five states), national, international (at least three countries)];

(h) Description of the types of materials (e.g. classroom guides, check-lists, pamphlets for patients etc.) you expect to produce;

(i) List of other types of health professionals to whom this training/education might be applicable;

(j) Transferability of training, materials and measurement tools to others to train additional groups of health professionals.

Appendix II—Sample List of References—Building Health Professional Capacity

Disclaimer: The following products are not EPA products. Some have been funded through an assistance agreement. EPA cannot attest to the accuracy of information provided in these products. This list represents a limited and non-exhaustive group of references provided as general background information to the assist the applicant.

Agency for Toxic Substances and Disease Registry, Centers for Disease Control and Prevention, United States Department of Health and Human Services: Case Studies in Environmental Medicine; http://www.atsdr.cdc.gov/HEC/CSEM/

Description: The Case Studies in Environmental Medicine (CSEM) are a series of self-instructional publications designed to increase the primary care provider's knowledge of hazardous substances in the environment and to aid in the evaluation of potentially exposed patients. Continuing medical education credits, continuing nursing education units, and continuing education units are offered by the Agency for Toxic Substances and Disease Registry (ATSDR) in support of this series.

Institute of Medicine: Nursing, Health & the Environment: Strengthening the Relationship to Improve the Public's Health; Washington, DC: National Academy Press; 1995

Description: Nursing, Health and Environment details a series of recommendations to integrate and enhance environmental health in nursing education, practice and research.

Institute of Medicine: Environmental Medicine: Integrating a Missing Element into Medical Education; Washington, DC: National Academy Press; 1995.

Description: Environmental Medicine describes a series of recommendations of how to facilitate the integration of environmental health into medical education.

American Academy of Pediatrics: Pediatric Environmental Health, 2nd edition; 2003 Description: Pediatric Environmental Health 2nd edition is a comprehensive reference manual for pediatric clinicians to help identify, prevent and treat environmental health problems in children. All original chapters, addressing issues such as carbon monoxide, indoor air pollutants, lead, mercury, drinking water and pesticides, have been updated. New chapters cover topics such as arsenic, irradiation and prenatal exposures.

American Nurses Foundation: Children's Health and the Environment; http://yosemite.epa.gov/ochp/ochpweb.nsf/content/whatwe_health.htm#nurses.

Description: Children's Health and the Environment is a three part continuing education series featuring (1) Environmentally Healthy Homes and Communities; (2) Safe Workplaces and Healthy Learning Places: Environmentally Healthy Schools; and (3) Environmental Health in the Health Care Setting.

National Education and Training Foundation: National Pesticide Practice Skills Guidelines for Medical & Nursing Practice and National Pesticide Competency Guidelines for Medical & Nursing Education; http://www.neetf.org/Health/publications.shtm#PestPractice.

Description: National Pesticide Practice Skills Guidelines for Medical & Nursing Practice outlines the knowledge and skills that professionals in the health professions need to have about pesticides. National Pesticide Competency Guidelines for Medical & Nursing Education outlines the knowledge and skills that students in the health professions need to have about pesticides. These documents are part of a national initiative aimed at ensuring that pesticides issues become integral elements of education and practice of primary care providers.

Greater Boston Physicians for Social Responsibility: In Harm's Way Training Programs for Health Professionals; http://psr.igc.org/ihw-training-programs.htm.

Description: The training is based on the peer-reviewed report In Harm's Way: Toxic Threats to Child Development, released in May, 2000. The training is relevant to physicians, nurses, midwives, staff of community health centers, students, childbirth educators, psychologists, and other health care providers, and is designed to provide Continuing Medical Education (CME) credits to physicians as well as Contact Hours for Nurses. Many materials are available in downloadable versions at: http://psr.igc.org/ihw-training-materials.htm.

Dated: August 19, 2004.
Elizabeth Blackburn,
Acting Director, Office of Children's Health Protection.

[FR Doc. 04-20039 Filed 9-1-04; 8:45 am]

BILLING CODE 6560-50-P